SMALL BUSINESS ADMINISTRATION

Audit and Financial Management Advisory (AFMAC) Committee Meeting

The U.S. Small Business Administration's Audit and Financial Management Advisory Committee (AFMAC) will be hosting its third meeting to discuss such matters that may be presented by members, and staff of the U.S. Small Business Administration, or others present. The meeting will begin on Friday, January 28, 2005, starting at 9 a.m. The meeting will be held at the U.S. Small Business Administration Headquarters, located at 409 3rd Street, SW., Washington, DC 20416, in the Chief Financial Officer's Conference Room, 6th Floor. The AFMAC was established by the Administrator of the SBA to provide recommendation and advice regarding the Agency's financial management including the financial reporting process, systems of internal controls, audit process and process for monitoring compliance with relevant laws and regulations.

Anyone wishing to attend must contact Thomas Dumaresq in writing or by fax. Thomas Dumaresq, Chief Financial Officer, 409 3rd Street SW., Washington, DC 20416, phone (202) 205-6506, fax: (202) 205-6869, e-mail: thomas.dumaresq@sba.gov.

Matthew K. Becker,
Committee Management Officer.

[FR Doc. 05-364 Filed 1-6-05; 8:45 am]

BILLING CODE 8025-01-P